DEPARTMENT OF ENERGY

Federal Energy Regulatory Commission

Combined Notice of Filings #2

Take notice that the Commission received the following electric corporate filings:

Docket Numbers: EC16-78-000.

Applicants: Tonopah Solar Energy, LLC.

Description: Application for Authorization Under Section 203 of the Federal Power Act and Request for Waivers and Expedited Action of Tonopah Solar Energy, LLC.

Filed Date: 2/24/16.

Accession Number: 20160224-5041.

Comments Due: 5 p.m. ET 3/16/16.

Docket Numbers: EC16-79-000.

Applicants: RE Astoria 2 LLC.

Description: Application for Authorization Under Section 203 of the Federal Power Act and Request for Expedited Consideration, Confidential Treatment and Waivers of RE Astoria 2 LLC.

Filed Date: 2/24/16.

Accession Number: 20160224-5064.

Comments Due: 5 p.m. ET 3/16/16.

Take notice that the Commission received the following electric rate filings:

Docket Numbers: ER16-993-000.

Applicants: Pacific Gas and Electric Company.

Description: § 205(d) Rate Filing: Amendment to Western Area Power Administration WDT SA 17 to be effective 4/1/2016.

Filed Date: 2/24/16.

Accession Number: 20160224-5001.

Comments Due: 5 p.m. ET 3/16/16.

Docket Numbers: ER16-994-000.

Applicants: Pacific Gas and Electric Company.

Description: § 205(d) Rate Filing: Amendment to the Western Area Power Administration IA (SA 59) to be effective 4/1/2016.

Filed Date: 2/24/16.

Accession Number: 20160224-5002.

Comments Due: 5 p.m. ET 3/16/16.

Docket Numbers: ER16-995-000.

Applicants: Pacific Gas and Electric Company.

Description: § 205(d) Rate Filing: Amendment No. 1 to the Western Area Power Administration O'Neill GIA (SA 314) to be effective 4/1/2016.

Filed Date: 2/24/16.

Accession Number: 20160224-5003.

Comments Due: 5 p.m. ET 3/16/16.

Docket Numbers: ER16-997-000.

Applicants: Public Service Company of New Mexico.

Description: Initial rate filing: Transmission Service Agreement between PNM and Iberdrola Renewables, LLC to be effective2/1/2016.

Filed Date: 2/24/16.

Accession Number: 20160224-5032.

Comments Due: 5 p.m. ET 3/16/16.

Docket Numbers: ER16-998-000.

Applicants: South Carolina Electric & Gas Company.

Description: Limited-Scope Section 205 Filing Concerning Depreciation Rates of South Carolina Electric & Gas Company.

Filed Date: 2/24/16.

Accession Number: 20160224-5110.

Comments Due: 5 p.m. ET 3/16/16.

Docket Numbers: ER16-999-000.

Applicants: Greenleaf Energy Unit 1 LLC.

Description: Baseline eTariff Filing: Greenleaf Energy Unit 1 LLC FERC Market-Based Rate Tariff to be effective 2/24/2016.

Filed Date: 2/24/16.

Accession Number: 20160224-5136.

Comments Due: 5 p.m. ET 3/16/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 24, 2016.
Nathaniel J. Davis, Sr.,
Deputy Secretary.

[FR Doc. 2016-04950 Filed 3-4-16; 8:45 am]

BILLING CODE 6717-01-P